DEPARTMENT OF VETERANS AFFAIRS

[OMB Control No. 2900-0427]

Proposed Information Collection (Former Prisoner of War Medical History) Activity: Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each extension collection, and allow 60 days for public comment in response to the notice. This notice solicits comments on the information needed for Veterans, Veteran Representatives and health care providers to request reimbursement from the federal government for emergency services at a private institution.

DATES: Written comments and recommendations on the proposed collection of information should be received on or before September 8, 2015.

ADDRESSES: Submit written comments on the collection of information through Federal Docket Management System (FDMS) at www.Regulations.gov; or Audrey Revere, Office of Regulatory and Administrative Affairs, Veterans Health Administration (10B4), Department of Veterans Affairs, 810 Vermont Avenue NW., Washington, DC 20420 or email: Audrey.revere@va.gov. Please refer to “OMB Control No. 2900-0427” in any correspondence. During the comment period, comments may be viewed online through the FDMS.

FOR FURTHER INFORMATION CONTACT: Audrey Revere at (202) 461-5694.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Former Prisoner of War Medical History.

OMB Control Number: 2900-0427.

Type of Review: Revision.

Abstract: VA Form 10-0048, Former POW Medical History, is used to collect data in response to Public Law 97-37, the “Former Prisoner of War Benefits Act of 1981,” that liberalizes eligibility requirements and extends the existing benefits. Additionally, the National Advisory Committee on Former Prisoners Of War requires this information for their annual submission to Congress.

VA physician will obtain the information on the VA Form 10-0048 during a medical examination. If these questions were not asked, the physician would be unable to assess the health care, disability compensation or rehabilitation needs of the Former Prisoner Of War (FPOW). The importance of collecting this very detailed information when the veteran is first seen is critical, not only with the physician evaluating the veteran but also by the rating specialist who will rate this claim. The rater also reviews the statements given by the veteran on this form not only at the first claim submission but in future years when other disabilities are claimed. Feedback from POW physicians in the field indicates their appreciation of the well thought out content and structure of the form. It is useful not only for Compensation and Pension examinations but also as a guide and reference for treatment planning for the FPOW patient. The questions in the form make it relevant for FPOWS of current as well as prior conflicts.

Affected Public: Individuals or Households.

Estimated Annual Burden: 113 burden hours.

Estimated Average Burden per Respondent: 90 minutes.

Frequency of Response: Annually.

Estimated Number of Respondents: 75.

By direction of the Secretary.
Kathleen M. Manwell,
VA Privacy Service, Office of Privacy and Records Management, Department of Veterans Affairs.

[FR Doc. 2015-16905 Filed 7-9-15; 8:45 am]

BILLING CODE 8320-01-P